DEPARTMENT OF THE INTERIOR

Bureau of Land Management

[LLNV912000 L10100000.PH0000 LXSS0006F0000; 12-08807; MO#4500077801; TAS: 14X1109]

Notice of Public Meetings: Northeastern Great Basin Resource Advisory Council, Nevada

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Northeastern Great Basin Resource Advisory Council (RAC), will hold three meetings in Nevada in fiscal year 2015. The meetings are open to the public.

DATES: Dates And Times: May 21, Hilton Garden Inn, 3650 East Idaho Street, Elko, Nevada; Aug. 13-14, BLM Battle Mountain District Office, 50 Bastian Road, Battle Mountain, Nevada; and Oct. 22, BLM Ely District Office, 702 North Industrial Way, Ely, Nevada. Meeting times will be published in local and regional media sources at least 14 days before each meeting. All meetings will include a public comment period.

FOR FURTHER INFORMATION CONTACT: Chris Rose, BLM Nevada RAC Coordinator, Nevada State Office, 1340 Financial Blvd., Reno, NV 89502, telephone: (775) 861-6480, email: crose@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The 15-member Council advises the Secretary of the Interior, through the BLM, on a variety of planning and management issues associated with public land management in Nevada. Topics for discussion at each meeting will include, but are not limited to:

• May 21 (Elko)—Nevada and Northeastern California Sub-regional Greater Sage-Grouse Proposed Land Use Plan Amendment and Final Environmental Impact Statement, and Wild Horse Population Control Pilot Project.

• August 13-14 (Battle Mountain)—Drought, Greater Sage-Grouse, and Livestock Grazing and Term Permit Renewals.

• October 22 (Ely)—Nevada and Northeastern California Sub-regional Greater Sage-Grouse Proposed Land Use Plan Amendment and Final Environmental Impact Statement, and Wild Horse Population Control Pilot Project.

Managers' reports of field office activities will be given at each meeting. The Council may raise other topics at the meetings.

Final agendas will be posted on-line at the BLM North-Eastern Great Basin RAC Web site at http://bit.ly/NEGBRAC and will be published in local and regional media sources at least 14 days before each meeting.

Individuals who need special assistance such as sign language interpretation or other reasonable accommodations, or who wish to receive a copy of each agenda, may contact Chris Rose no later than 10 days prior to each meeting.

Paul McGuire,
Acting Chief, Office of Communications.

[FR Doc. 2015-08251 Filed 4-9-15; 8:45 am]

BILLING CODE 4310-HC-P